DEPARTMENT OF ENERGY

Federal Energy Regulatory Commission

[Project No. 8866-013]

Black Canyon Bliss, LLC; Notice of Application Tendered for Filing With the Commission and Soliciting Additional Study Requests and Establishing Procedural Schedule for Relicensing and a Deadline for Submission of Final Amendments

Take notice that the following hydroelectric application has been filed with the Commission and is available for public inspection.

a. Type of Application: New Subsequent License.

b. Project No.: 8866-013.

c. Date Filed: February 28, 2022.

d. Applicant: Black Canyon Bliss, LLC.

e. Name of Project: Stevenson No. 2 Hydroelectric Project.

f. Location: The existing project is located on an unnamed tributary to the Snake. River in Gooding County, Idaho. The project does not affect federal lands.

g. Filed Pursuant to: Federal Power Act 16 U.S.C. 791(a)-825(r).

h. Applicant Contact: Darek Jentzsch, 20511 F. Street, Rupert, ID 83350, Telephone (208) 532-4119.

i. FERC Contact: Maryam Zavareh, (202) 502-8474 or maryam.zavareh@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 29, 2022. The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY).

m. The application is not ready for environmental analysis at this time.

n. Project Description: The existing Black Canyon Bliss Hydro Project consists of a 1,140-foot-long intake; a concrete transition box; an 18-inch diameter, 1,410-foot-long steel penstock; a powerhouse containing a single generating unit with a rated capacity of 24 kW; a tailrace, a 1,150-foot-long, 34.5 kV transmission line to Idaho power connection; and appurtenant facilities. The project generates an annual average of 180 megawatt-hours.

Black Canyon Bliss, LLC proposes to continue to operate the project in a run-of-river mode. The project operates within a flow range of 0.5 cubic feet per second (cfs) (minimum hydraulic capacity of the turbine) and 5 cfs (maximum hydraulic capacity of the turbine).

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-8866). A copy of the application is typically available to be viewed at the Commission in the Public Reference Room. At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural Schedule:

The application will be processed according to the following preliminary Hydro Licensing Schedule. Revisions to the schedule may be made as appropriate.

Milestone | Target date
Issue Deficiency Letter (if necessary) | April 2022.
Issue Scoping Document 1 for comments | July 2022.
Comments on Scoping Document 1 Due | August 2022.
Issue Notice of Ready for Environmental Analysis | September 2022.

q. Final amendments to the application must be filed with the Commission no later than 30 days from the issuance date of the notice of ready for environmental analysis.

Dated: March 10, 2022.
Debbie-Anne A. Reese,
Deputy Secretary.

[FR Doc. 2022-05586 Filed 3-16-22; 8:45 am]

BILLING CODE 6717-01-P